DEPARTMENT OF THE INTERIOR

National Park Service

[NPS-WASO-NAGPRA-22938; PPWOCRADN0-PCU00RP14.R50000]

Notice of Inventory Completion: U.S. Fish and Wildlife Service, Alaska Region, Anchorage, AK

AGENCY: National Park Service, Interior.

ACTION: Notice.

SUMMARY: The U.S. Fish and Wildlife Service, Alaska Region, Anchorage, AK (Alaska Region USFWS), has completed an inventory of human remains and associated funerary objects, in consultation with the appropriate Indian tribes or Native Hawaiian organizations, including Alaska Native Tribes, and has determined that there is a cultural affiliation between the human remains and associated funerary objects, and present-day Indian tribes or Native Hawaiian organizations. Lineal descendants or representatives of any Indian tribe or Native Hawaiian organization, including Alaska Native Tribes, not identified in this notice that wish to request transfer of control of these human remains and associated funerary objects, should submit a written request to the Alaska Region USFWS. If no additional requestors come forward, transfer of control of the human remains to the lineal descendants, Indian tribes, Native Hawaiian, Alaska Native Tribes, or organizations stated in this notice may proceed.

DATES: Representatives of any Indian tribes or Native Hawaiian organizations, including Alaska Native Tribes, not identified in this notice that wish to request transfer of control of these human remains should submit a written request with information in support of the request to the Alaska Region USFWS at the address in this notice by April 26, 2017.

ADDRESSES: Edward J. DeCleva, Regional Historic Preservation Officer, U.S. Fish and Wildlife Service, Alaska Region, 1011 East Tudor Road, MS-235, Anchorage, AK 99503, telephone (907) 786-3399, email Edward_decleva@fws.gov.

SUPPLEMENTARY INFORMATION: Notice is here given in accordance with the Native American Graves Protection and Repatriation Act (NAGPRA), 25 U.S.C. 3003(d)(3), of the completion of an inventory of human remains under the control of the Alaska Region USFWS. The human remains and associated funerary objects were removed from Chirikof Island, Kodiak Island Borough, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Alaska Region USFWS professional staff and U.S. Army Corps of Engineers (USACE St. Louis District) staff in consultation with representatives of the Sun'aq Tribe of Kodiak (previously listed as the Shoonaq' Tribe of Kodiak).

History and Description of the Remains

In August 1962, human remains representing, at minimum, 109 individuals were removed from multiple sites in the Southwest Anchorage of Chirikof Island, in Kodiak Island Borough, AK. The human remains represent a minimum of 61 individuals, 48 adults and 13 juveniles, from blowout A (also referred to as Site 1); a minimum of 42 individuals 30 adults and 12 juveniles, from blowout B; two adult individuals from Site 2 (also listed as the Midden Site, a secondary site at blowout B); and four adult individuals from the additional locations on the island. No known individuals were identified. The 47 associated funerary objects include 4 vials of blue European trading beads, 2 vials white European trading beads, 34 amber beads, and 1 animal bone shaft all from burial 2 at Site 2; 3 labrets, 2 jet and 1 ivory were recovered from Site 1 on Chirikof Island.

Anthropologists collected exposed human remains from two areas designated blowout Area A and B. Area A was a deflating dune trending east-west 200 meters from the shoreline of the Southwest Anchorage, and Area B is described as an area approximately 200 by 100 meters located east of Area A across a river. At the time of the collection, most of the human remains from Area B were found stacked together in piles, while the skeletal material from Area A were scattered, disarticulated, and badly mixed. In addition to Areas A and B, approximately four individuals were removed from two other areas of the island; these were designated as sites 14 and 21.

In the early 1960s, these human remains were held at the University of Wisconsin-Madison. In the late 1960s, most of the collection was loaned to Dr. Neal Tappen at the University of Wisconsin-Milwaukie. In 1982, a doctoral student brought the remains to Indiana University in Bloomington, IN. In March 2016, the collection was transferred to the USACE St. Louis District for inventory and rehousing in anticipation of their return to Alaska.

The human remains are believed to be interments stemming from a continuous occupation of the island between 1798 and 1870 by administrators as well as conscript and paid laborers hunting ground squirrels for the Russian-American Company. The preponderance of records, including lists of residents for the period 1833-1870, point to the Chirikof population as being mainly Kodiak Island Alutiiq from the southwest portion of the island including those on Tugidak and Sitkinak islands. Therefore, the Chirikof Island human remains are likely Native American and most closely affiliated with the modern Kodiak Alutiiq people.

Determinations Made by the Alaska Region USFWS

Officials of the Alaska Region USFWS have determined that:

• Pursuant to 25 U.S.C. 3001(9), the human remains described in this notice represent the physical remains of 109 individuals of Native American ancestry.

• Pursuant to 25 U.S.C. 3001(3)(A), the 47 objects described in this notice are reasonably believed to have been placed with or near individual human remains at the time of death or later as part of the death rite or ceremony.

• Pursuant to 25 U.S.C. 3001 (2), there is a relationship of shared group identity that can be reasonably traced between the Native American human remains and the Sun'aq Tribe of Kodiak (previously listed as the Shoonaq' Tribe of Kodiak).

Additional Requestors and Disposition

Lineal descendants or representatives of any Indian tribe or Native Hawaiian organization not identified in this notice that wish to request transfer of control of these human remains and associated funerary objects should submit a written request with information in support of the request to Edward J. DeCleva, Regional Historic Preservation Officer, U.S. Fish and Wildlife Service, Alaska Region, 1011 East Tudor Road, MS-235, Anchorage, AK 99503, telephone (907) 786-3399, email Edward_decleva@fws.gov, by April 26, 2017. After that date, if no additional requestors have come forward, transfer of control of the human remains and associated funerary objects to the Sun'aq Tribe of Kodiak (previously listed as the Shoonaq' Tribe of Kodiak) may proceed.

The Alaska Region USFWS is responsible for notifying the Sun'aq Tribe of Kodiak (previously listed as the Shoonaq' Tribe of Kodiak) that this notice has been published.

Dated: February 15, 2017.
Melanie O'Brien,
Manager, National NAGPRA Program.

[FR Doc. 2017-05981 Filed 3-24-17; 8:45 am]

BILLING CODE 4312-52-P